FEDERAL COMMUNICATIONS COMMISSION

[MB Docket 07-269; DA 09-794]

Annual Assessment of the Status of Competition in the Market for the Delivery of Video Programming

AGENCY: Federal Communications Commission.

ACTION: Notice.

SUMMARY: The Commission is required to report annually to Congress on the status of competition in markets for the delivery of video programming. This document further extends the deadlines for filing comments and reply comments in response to the notice of inquiry for the 14th Annual Report to Congress, which requested data as of June 2007. The Commission needs to bring its reporting up to date and will issue a single report for 2007, 2008, and 2009. The Commission previously announced that it would establish concurrent comment and reply deadlines for 2007 and 2008 data. On April 8, 2009 the Commission adopted a supplemental notice of inquiry to request information for 2008 and 2009. The supplemental notice established May 20, 2009 as the comment deadline for the filing of 2008 information, and June 20, 2009 as the reply comment deadline. This document adopts comment and reply comment deadlines for 2007 information that are concurrent with those filing dates. A single set of deadlines for 2007 and 2008 will avoid duplication of effort by commenters and streamline Commission review of the submitted information.

DATES: Interested parties may file comments on or before May 20, 2009, and reply comments on or before June 20, 2009.

ADDRESSES: You may submit comments, identified by MB 07-269, by any of the following methods:

• Federal eRulemaking Portal: http://www.regulations.gov. Follow the instructions for submitting comments.

• Federal Communications Commission's Web site: http://www.fcc.gov/cgb/efcs/. Follow the instructions for submitting comments.

• People with Disabilities: Contact the FCC to request reasonable accommodations (accessible format documents, sign language interpreters, CART, etc.) by e-mail: FCC504@fcc.gov or phone: (202) 418-0530 or TTY: (202) 418-0432.

For detailed instructions for submitting comments and additional information on the rulemaking process, see the SUPPLEMENTARY INFORMATION section of this document.

FOR FURTHER INFORMATION CONTACT: Dana Scherer, Media Bureau at (202) 418-2127.

SUPPLEMENTARY INFORMATION: This is a synopsis of the Media Bureau's Order in MB Docket No. 07-269, DA 09-794, adopted and released on April 8, 2009. The complete text of this Order is available for inspection and copying during regular business hours in the FCC's Reference Information Center, Room CY-A257, Portals II, 445 Twelfth Street, SW., Washington, DC 20554. The complete text is also available on the Commission's Internet site at http://www.fcc.gov. Alternative formats are available to persons with disabilities by contacting the Consumer & Governmental Affairs Bureau at (202) 418-0530 (voice), (202) 418-0432 (TTY). The complete text of the Order may also be purchased from the Commission's duplicating contractor, Best Company and Printing, Inc., Portals II, 445 12th Street, SW., Room CY-B402, Washington, DC 20554, telephone (202) 863-2893, facsimile (202) 863-2898, or by e-mail fcc@bcpiweb.com, or via its Web site http://www.bcpiweb.com.

Synopsis of Order

1. On January 16, 2009, the Commission released its 13th Annual Report to Congress on the status of competition in the market for the delivery of video programming. See Annual Assessment of the Status of Competition in the Market for the Delivery of Video Programming, 13th Annual Report, 24 FCC Rcd 542 (2009). The Report provided information as of 2006. On the same date, the Commission released a Notice of Inquiry (NOI) soliciting 2007 data for the 14th Annual Report. See Annual Assessment of the Status of Competition in the Market for the Delivery of Video Programming, Notice of Inquiry, 24 FCC Rcd 750 (2009), 74 FR 8675, February 11, 2009. The NOI initially set a deadline of February 27, 2009 for comments, and March 28, 2009 for reply comments.

2. On February 23, 2009, the Commission issued an extension of time to file comments and reply comments for 2007 data. See Annual Assessment of the Status of Competition in the Market for the Delivery of Video Programming, Order, 24 FCC Rcd 2524 (2009), 74 FR 11102, March 16, 2009. As described in the extension, comments in response to the NOI seeking information as of June 30, 2007, are due on April 28, 2009, and reply comments are due on May 28, 2009. We noted that the establishment of a single set of filing deadlines for 2007 and 2008 data will avoid duplication of effort by commenters and will streamline Commission review of the submitted information, thereby conserving commenters' and Commission resources.

3. As described in the Supplemental Notice of Inquiry that the Commission adopted on April 8, 2009, we will release a single report covering the years 2007, 2008, and 2009. Comments for 2008 data are due May 20, 2009, and reply comments are due June 20, 2009.

4. To afford commenters the opportunity to file their 2007 and 2008 information concurrently, we are hereby extending the comment periods announced in the Order to coincide with the filing deadlines we establish for the 2008 data.

5. Accordingly, it is ordered that, pursuant to sections 4(i), 4(j), 403 and 628(g) of the Communications Act of 1934, as amended, 47 U.S.C. 154(i), 154(j), 403, and 548(g), and §§ 0.061, 0.204, 0.283, and 1.46 of the rules, 47 CFR 0.061, 0.204, 0.283, and 1.46, the deadlines for responding to the Notice of Inquiry for the 14th Annual Report are extended, sua sponte, until May 20, 2009, for initial comments and June 20, 2009, for reply comments.

Federal Communications Commission,
Marlene H. Dortch,
Secretary.

[FR Doc. E9-9571 Filed 4-24-09; 8:45 am]

BILLING CODE 6712-01-P